DEPARTMENT OF AGRICULTURE

Rural Utilities Service

Western Farmers Electric Cooperative, Inc. and Brazos Electric Power Cooperative, Inc.; Notice of Intent To Hold a Public Scoping Meeting and Prepare an Environmental Impact Statement

AGENCY: Rural Utilities Service, USDA.

ACTION: Notice of intent to hold a public scoping meeting and prepare an environmental impact statement (EIS).

SUMMARY: The Rural Utilities Service (RUS), an agency delivering the U.S. Department of Agriculture's Rural Development Utilities Programs, intends to hold a public scoping meeting and prepare an environmental impact statement in connection with potential impacts related to a project being proposed by Western Farmers Electric Cooperative, Inc., (WFEC), of Anadarko, Oklahoma, and Brazos Electric Power Cooperative, Inc., (Brazos) of Waco, Texas. The proposal consists of the construction and operation of a 750 megawatt coal-fired electric generation facility at the existing Hugo Generating Station near Hugo, Oklahoma.

DATES: RUS will conduct a public scoping meeting in an open-house format on November 1, 2004, from 7 p.m. to 9 p.m., at the Kiamichi Technical Center, 107 South 15th Street, Hugo, Oklahoma.

FOR FURTHER INFORMATION CONTACT: Dennis Rankin, Environmental Protection Specialist, RUS, Engineering and Environmental Staff, 1400 Independence Avenue, SW., Stop 1571, Washington, DC 20250-1571, telephone: (202) 720-1953 or e-mail: dennis.rankin@usda.gov, or Gerald Butcher, Senior Environmental Specialist, Western Farmers Electric Cooperative, Inc., P.O. Box 429, Anadarko, OK 73005-0429, telephone: (405) 559-4341, or email: g_butcher@wfec.com.

SUPPLEMENTARY INFORMATION: WFEC and Brazos propose to construct and operate a 750 MW coal-fired electric generation facility at the existing Hugo Generating Station near Hugo, Oklahoma. Construction of the project will require the construction of new electric transmission lines. Studies are currently underway to determine potential connection points and transmission line corridors. As soon as the connection points and transmission line corridors are identified RUS will hold additional public meetings. The schedule developed by WFEC and Brazos would place the facility in commercial operation by 2010. Alternatives to be considered by RUS include no action, purchased power, renewable energy sources, distributed generation, and alternative transmission line routes.

Comments regarding the proposed project may be submitted (orally or in writing) at the public scoping meeting or in writing within 30 days after the November 1, 2004 meeting to RUS at the address provided in this notice.

RUS will use input provided by government agencies, private organizations, and the public in the preparation of a Draft Environmental Impact Statement (EIS). The Draft EIS will be available for review and comment for 45 days. A Final EIS will then be prepared that considers all comments received. The Final EIS will be available for review and comment for 30 days. Following the 30-day comment period, RUS will prepare a Record of Decision (ROD). Notices announcing the availability of the Draft and Final EIS and the ROD will be published in the Federal Register and in local newspapers. Any final action by RUS related to the proposed project will be subject to, and contingent upon, compliance with all relevant Federal, State. and local environmental laws and regulations and completion of the environmental review requirements as prescribed in Title 7 CFR Part 1794, Environmental Policies and Procedures.

Dated: October 5, 2004.
Glendon D. Deal,
Director, Engineering and Environmental Staff, Water and Environmental Programs.

[FR Doc. 04-23479 Filed 10-19-04; 8:45 am]

BILLING CODE 3410-15-P